INTERNATIONAL TRADE COMMISSION

[Investigation No. 701-TA-328 (Second Review)]

Cut-to-Length Carbon Steel Plate From the United Kingdom

AGENCY: United States International Trade Commission.

ACTION: Termination of review.

SUMMARY: On October 4, 2006, the Department of Commerce (“Commerce”) published notice in the Federal Register of its determination that revocation of the countervailing duty (“CVD”) order on cut-to-length (“CTL”) carbon steel plate from the United Kingdom would not be likely to lead to continuation or recurrence of a countervailable subsidy. Commerce further stated that it was revoking the CVD order on CTL carbon steel plate from the United Kingdom (71 FR 58587). Accordingly, pursuant to section 751(c) of the Tariff Act of 1930 (19 U.S.C. 1675(c)), the five-year review of the countervailing duty order concerning CTL carbon steel plate from the United Kingdom (investigation No. 701-TA-328 (Second Review)) is terminated.

DATES: Effective Date: October 4, 2006.

FOR FURTHER INFORMATION CONTACT: Michael Szustakowski (202-205-3188), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

Authority: This five-year review is being terminated under authority of title VII of the Tariff Act of 1930; this notice is published pursuant to section 207.69 of the Commission's rules (19 CFR 207.69).

Issued: October 16, 2006.
By order of the Commission.
Marilyn R. Abbott,
Secretary to the Commission.

[FR Doc. E6-17621 Filed 10-20-06; 8:45 am]

BILLING CODE 7020-02-P